DEPARTMENT OF THE TREASURY

Internal Revenue Service

Members of Senior Executive Service Performance Review Boards

AGENCY: Internal Revenue Service (IRS), Treasury.

ACTION: Notice.

SUMMARY: The purpose of this notice is to publish the names of those IRS employees who will serve as members on IRS' Fiscal Year 2008 Senior Executive Service (SES) Performance Review Boards.

DATES: This notice is effective October 1, 2008.

FOR FURTHER INFORMATION CONTACT: Nina C. Gresham, 1111 Constitution Avenue, NW., Room 3516, Washington, DC 20224, (202) 927-7409.

SUPPLEMENTARY INFORMATION: Pursuant to 5 U.S.C. 4314(c)(4), this notice announces the appointment of members to the Internal Revenue Service's SES Performance Review Boards. The names and titles of the executives serving on the boards follow:

Linda E. Stiff, Deputy Commissioner for Services and Enforcement.

Brady Bennett, Director, Filing and Payment Compliance (W&I).

Andrew Buckler, Associate CIO, Enterprise Services (MITS).

Robert Buggs, IRS Human Capital Officer.

Richard E. Byrd, Commissioner, Wage and Investment.

Susan W. Carroll, Director, Customer Assistance, Relationships and Education (W&I).

Michael Chesman, Director, Office of Professional Responsibility.

Michael V. Culpepper, Director, Human Resources (SB/SE).

Harry Curry, Associate CIO, End Users Equipment and Services (MITS).

Jonathan Davis, Chief of Staff, Office of the Commissioner.

Paul DeNard, Deputy Commissioner (Operations), Large and Mid-Size Business.

Alison L. Doone, Chief Financial Officer.

James P. Falcone, Chief, Agency-Wide Shared Services.

Faris Fink, Director, Acting Deputy Commissioner, Small Business/Self Employed.

Gina Garza, Associate CIO, Applications Development (MITS).

Linda K. Gilpin, Associate CIO, Customer Relationship and Service Delivery (MITS).

Arthur L. Gonzalez, Chief Information Officer.

Joseph Grant, Deputy Division Commissioner, Tax Exempt and Government Entities.

James M. Grimes, Director, Compliance (W&I).

Sarah Hall Ingram, Chief, Appeals.

Kathy Jantzen, Deputy Chief Information Officer for Operations (MITS).

Robin DelRey Jenkins, Director, Business Systems Planning (SB/SE).

Michael D. Julianelle, Director, Employee Plans (TEGE).

Gregory Kane, Deputy Chief Financial Officer.

Frank Keith, Chief, Communications and Liaison.

Lois G. Lerner, Director, Exempt Organizations (TEGE).

Erick Martinez, Director of Field Operations, Pacific Area (CI).

Eileen C. Mayer, Chief, Criminal Investigation.

Mark J. Mazur, Director, Research, Analysis, and Statistics.

David L. Medeck, Business Modernization Executive (W&I).

Moises Medina, Director, Government Entities (TEGE).

Kurt Meier, Deputy Chief, Appeals.

Steven T. Miller, Commissioner, Tax Exempt and Government Entities.

Frank Y. Ng, Commissioner, Large and Mid-Size Business.

Robert Odenheimer, Associate CIO, Enterprise Operations (MITS).

Nina E. Olson, National Taxpayer Advocate.

Rick Raven, Director, Operations Policy and Support (CI).

Kenneth M. Riccini, Associate CIO, Enterprise Networks (MITS).

Julie Rushin, Director, Strategy and Finance (W&I).

Barry Schott, Deputy Division Commissioner (International), (LMSB).

Victor S.O. Song, Deputy Chief, Criminal Investigation.

David Stender, Associate CIO, Cybersecurity (MITS).

Peter J. Stipek, Director, Customer Accounts Services (W&I).

Michael Thomas, Director of Field Operations, Southeast Area (CI).

Dora A. Trevino, Acting Chief, EEO and Diversity.

Curt Turner, Associate CIO for Management (MITS).

Christopher Wagner, Acting Commissioner, Small Business/Self Employed.

Norris Walker, Director, Physical Security and Emergency Preparedness (AWSS).

Pamela Watson, Deputy Commissioner, Wage and Investment.

Stephen Whitlock, Director, Whistleblower Office.

David Williams, Director, Electronic Tax Administration and Refundable Credits (W&I).

Debbie G. Wolf, Director, Office of Privacy, Information Protection and Data Security.

This document does not meet the Department of the Treasury's criteria for significant regulations.

Dated: August 25, 2008.
Linda E. Stiff,
Deputy Commissioner for Services and Enforcement, Internal Revenue Service.

[FR Doc. E8-20203 Filed 8-29-08; 8:45 am]

BILLING CODE 4830-01-P